DEPARTMENT OF ENERGY

Federal Energy Regulatory Commission

[Project No. 3472-024]

Aspinook Hydro, LLC; Notice Soliciting Scoping Comments

Take notice that the following hydroelectric application has been filed with the Commission and is available for public inspection.

a. Type of Application: New Major License.

b. Project No.: 3472-024.

c. Date Filed: April 30, 2020; and revised on October 13, 2020.

d. Applicant: Aspinook Hydro, LLC, a subsidiary of Gravity Renewables, Inc.

e. Name of Project: Wyre Wynd Hydroelectric Project.

f. Location: On the Quinebaug River in New London and Windham Counties, Connecticut. No federal lands are occupied by the project works or located within the project boundary.

g. Filed Pursuant to: Federal Power Act 16 U.S.C. 791(a)-825(r).

h. Applicant Contact: Mark Boumansour, Chief Operating Officer, Gravity Renewables, Inc.; 1401 Walnut Street, Boulder, Colorado 80302; Phone at (303) 440-3378, or email at mark@gravityrenewables.com.

i. FERC Contact: Kristine Sillett at (202) 502-6575, or kristine.sillett@ferc.gov.

j. Deadline for filing scoping comments: January 31, 2021.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Wyre Wynd Hydroelectric Project (P-3472-024).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The application is not ready for environmental analysis at this time.

l. The existing Wyre Wynd Project consists of: (1) A concrete-encased masonry dam that includes: (a) A 473-foot-long, 18-foot-high spillway with 2-foot-high wooden flashboards, and one, 5-foot-wide by 3-foot-high sluice gate; (b) a 100-foot-long left abutment that includes a 65-foot-wide headgate structure with five, 10-foot-wide by 12-foot-high headgates; and (c) a 4-foot-long right abutment; (2) a 333-acre impoundment with a usable storage capacity of 167-acre-feet at a normal elevation of 97.3 feet National Geodetic Vertical Datum of 1929 (NGVD29); (3) a 170-foot-long, 50-foot-wide forebay that includes: (a) A 60-foot-long, 10-foot-high auxiliary spillway; and (b) two, 10-foot-wide, 12-foot-high arched-top low-level outlet gates; (4) a powerhouse intake structure located at the downstream end of the forebay that includes: (a) A 37-foot-high steel trash rack structure varying in width from 19.5 feet to 21.3 feet, with a clear bar spacing of 2.6 inches; and (b) a 16-foot-long, 12-foot-diameter steel penstock that supplies flow to the main 2.7-megawatt (MW) S-type Kaplan turbine-generator unit housed within the 30-foot-wide, 100-foot-long concrete powerhouse; (5) a 450-foot-long, 50-foot-wide tailrace that receives discharges from the main turbine-generator unit; (6) a second intake structure branching off of the right side of the forebay, approximately 35 feet downstream of the headgate structure, that includes: (a) A 4-foot-wide, 4-foot-high head gate; (b) a 9-foot-wide, 20-foot-high trash rack structure with 1.5-inch clear bar spacing that extends from the floor of the headgate structure to approximately 12 feet below the forebay water surface; and (c) a 40-foot-long, 4-foot-diameter steel penstock that provides flow to a mini, in-line 0.08-MW fixed-blade propeller turbine-generator unit; (7) a 10-foot-long, 30-foot-wide tailrace that receives discharges from the mini turbine-generator unit; (8) an 80-foot-long, 600-volt transmission line that connects the generators to the local utility distribution system; and (9) appurtenant facilities. The project creates an approximately 400-foot-long bypassed reach of the Quinebaug River.

m. In addition to publishing the full text of this document in the Federal Register, the Commission provides all interested persons an opportunity to view and/or print the contents via the internet through the Commission's Home Page (http://www.ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (866) 208-3676 or TYY, (202) 502-8659.

n. You may also register online at https://ferconline.ferc.gov/FERCOnline.aspx to be notified via email of new filings and issuances related to this or other pending projects. For assistance, contact FERC Online Support.

o. Scoping Process

Commission staff will prepare either an environmental assessment (EA) or an Environmental Impact Statement (EIS) that describes and evaluates the probable effects, if any, of the licensee's proposed action and alternatives. The EA or EIS will consider environmental impacts and reasonable alternatives to the proposed action. The Commission's scoping process will help determine the required level of analysis and satisfy the NEPA scoping requirements, irrespective of whether the Commission prepares an EA or an EIS. Due to restrictions on mass gatherings related to COVID-19, we do not intend to conduct a public scoping meeting and site visit in this case. Instead, we are soliciting written comments and suggestions on the preliminary list of issues and alternatives to be addressed in the NEPA document, as described in scoping document 1 (SD1), issued December 2, 2020.

Copies of the SD1 outlining the subject areas to be addressed in the NEPA document were distributed to the parties on the Commission's mailing list and the applicant's distribution list. Copies of SD1 may be viewed on the web at http://www.ferc.gov using the eLibrary link. Enter the docket number excluding the last three digits in the docket number field to access the document. For assistance, call 1-866-208-3676 or for TTY, (202) 502-8659.

Dated: December 2, 2020.
Kimberly D. Bose,
Secretary.

[FR Doc. 2020-26931 Filed 12-7-20; 8:45 am]

BILLING CODE 6717-01-P